DEPARTMENT OF THE INTERIOR

Bureau of Land Management

[CA-930-5410-EU-B230; CACA 48686]

Notice of Application for Recordable Disclaimer of Interest in Lands; Lake County, CA

AGENCY: Bureau of Land Management, Interior.

ACTION: Notice.

SUMMARY: An application has been filed with the Bureau of Land Management (BLM) by Isabelle Brown, Attorney-at-Law on behalf of April Jackson-DiWald (personal representative of the estate of Amerdine Snow McCloud, deceased), for a Recordable Disclaimer of Interest from the United States for certain land in Lake County, California.

DATES: Comments to this action should be received by November 20, 2007.

ADDRESSES: Comments or protests must be filed with: State Director (CA930), Bureau of Land Management, 2800 Cottage Way, Rm. W 1834, Sacramento, CA 95825.

FOR FURTHER INFORMATION CONTACT: Kathy Gary, BLM California State Office, at the above address or by phone at 916-978-4677.

SUPPLEMENTARY INFORMATION: Pursuant to Section 315 of the Federal Land Policy and Management Act of 1976 (43 U.S.C. 1745), Isabelle Brown has filed an application on behalf of April Jackson-DiWald (personal representative of the estate of Amerdine Snow McCloud, deceased) requesting the United States issue a Recordable Disclaimer of Interest for the following described land:

Mount Diablo Meridian

T. 15 N., R. 10 W.,

Being that parcel situated in lot 10, sec. 1, more particularly described as Parcel Five (5), as shown on the record of survey for the Upper Lake Rancheria recorded in the Records of Lake County, California, on June 17, 1961 in Book 2 at pages 6 to 11, inclusive.

The area described contains 1.83 acres, more or less, in Lake County.

The above described land belongs to Amerdine Snow McCloud a member of the Upper Lake Rancheria, a federally recognized Indian Tribe. Pursuant to the California Rancheria Termination Act of August 18, 1958, (Pub. L. 85-671, 72 Stat. 69, as amended by the Act of August 11, 1964, 78 Stat. 390), the Bureau of Indian Affairs (BIA) issued a deed conveying fee simple title from the United States to Amerdine Snow McCloud on July 20, 1961. In 1998 Amerdine Snow McCloud recorded her deed in Lake County and attempted to deed her real property back to the United States to be held in trust by the BIA. The deed was never accepted by the BIA. April Jackson-DiWald, daughter of the deceased Amerdine Snow McCloud is seeking to clear title to demonstrate that the land was never taken into trust by the United States.

The United States has no claim to or interest in the land described and issuance of a Recordable Disclaimer of Interest will be approved if no valid objection is received.

Comments, including names and street addresses of respondents will be available for public review at the BLM California State Office (see address above) during regular business hours 8:30 a.m. to 4:30 p.m. Monday through Friday, except Federal holidays. Before including your address, phone number, e-mail address, or other personal identifying information in your comment, you should be aware that your entire comment—including your personal identifying information—may be made publicly available at any time. While you can ask us in your comment to withhold your personal identifying information from public review, we cannot guarantee that we will be able to do so.

Authority: 43 CFR 1864.2(a).

Dated: May 10, 2007.
J. Anthony Danna,
Deputy State Director, Natural Resources.

[FR Doc. E7-16486 Filed 8-21-07; 8:45 am]

BILLING CODE 4310-40-P